DEPARTMENT OF HEALTH AND HUMAN SERVICES

Administration for Children and Families

Administration for Native Americans

AGENCY: Administration for Native Americans, ACF, HHS.

ACTION: Notice to Award Five Urgent Single-Source Grants.

CFDA Number: 93.612.

Legislative Authority: This award will be made pursuant to Section 803 of the Native American Programs Act of 1974.

Project Period: 7/1/2010-12/31/2010.

SUMMARY: This notice announces that the Administration for Children and Families (ACF), Administration for Native Americans (ANA) has awarded five single-source urgent grants to fund projects that are designed to mitigate the impact of the devastation caused by the tsunami that seriously damaged American Samoa on September 29, 2009. As a result of the devastating tsunami, 32 people were killed and 277 homes, schools, businesses, and transportation systems were destroyed. The event left the people of American Samoa traumatized and in need of assistance to re-start their lives. ACF/ANA is providing urgent financial assistance to four non-profit organizations and one local government agency to fund projects that will address a variety of recovery activities including the recording of accounts of the tsunami experience, developing a recovery plan, organizing youth cleanup activities, creating disaster preparedness programs, developing a community market, and building capacity through training of community members in traditional farming, handicraft making, and home businesses. All five grantees are located in American Samoa. The following projects are funded:

• Catholic Social Services ($72,454). This grant will create and implement training on traditional farming, handicraft making, and management of home businesses, and establish a community market to promote and sell the participants' produce and products.

• Native American Samoa Advisory Council ($55,595). This grant will design and implement training and capacity-building focused on traditional farming techniques. Through this project, the grantee will promote nutrition, food security, and social and economic stability.

• Intersections, Inc. ($106,750). This grant will begin to restore and rebuild the community's social well-being and self-confidence through support services, recording the stories of tsunami survivors, and developing a recovery plan.

• Pacific Islands Center for Educational Development Youth Serving Samoa ($42,004). This grant will support cleanup activities in six villages through youth-organized village beautification days and develop a youth campaign on disaster preparedness.

• American Samoa Government Department of Parks and Recreation ($35,802). This grant will work to restore social and emotional stability through the restoration of Amanave Beach Park. The restoration of the park will allow the children of the village to use play as a way to enjoy childhood while at the same time create a place for adults and elders to gather to support one another.

FOR FURTHER INFORMATION CONTACT: Carrie Fanueli, ANA Program Specialist, Administration for Native Americans, 370 L'Enfant Promenade, SW., Washington, DC 20047. Telephone: 877-922-9262. E-mail: Carrie.Fanueli@acf.hhs.gov.

Dated: June 29, 2010.
Lillian A. Sparks,
Commissioner for Native Americans, Administration for Native Americans.

[FR Doc. 2010-16312 Filed 7-2-10; 8:45 am]

BILLING CODE P